DEPARTMENT OF AGRICULTURE

Foreign Agricultural Service

WTO Agricultural Safeguard Trigger Levels

AGENCY: Foreign Agricultural Service, U.S. Department of Agriculture

ACTION: Notice of product coverage and trigger levels for safeguard measures provided for in the World Trade Organization (WTO) Agreement on Agriculture; Correction

SUMMARY: The Foreign Agricultural Service published a document in the Federal Register of May 25, 2012, updating the trigger levels for products which may be subject to measures under the safeguard provisions of the WTO Agreement on Agriculture. The document contained incorrect trigger levels.

FOR FURTHER INFORMATION CONTACT: Safeguard Staff, Import Policies and Export Reporting Division, Office of Trade Programs, Foreign Agricultural Service, U.S. Department of Agriculture, Stop 1021, 1400 Independence Avenue SW., Washington, DC 20250-1021; or by telephone at (202) 720-0638, or by email at itspd@fas.usda.gov.

Correction

In the Federal Register of May 25, 2012, in FR Doc. 2012-12691, on pages 31296-31298, correct the Quantity-Based Safeguard Trigger Annex to read:

Annex—Quantity-Based Safeguard Trigger
Product | Trigger level | Period
Beef | 239,476 mt | January 1, 2012 to December 31, 2012.
Mutton | 5,964 mt | January 1, 2012 to December 31, 2012.
Cream | 484,311 liters | January 1, 2012 to December 31, 2012.
Evaporated or Condensed Milk | 1,268,235 kilograms | January 1, 2012 to December 31, 2012.
Nonfat Dry Milk | 461,559 kilograms | January 1, 2012 to December 31, 2012.
Dried Whole Milk | 3,141,891 kilograms | January 1, 2012 to December 31, 2012.
Dried Cream | 11,195 kilograms | January 1, 2012 to December 31, 2012.
Dried Whey/Buttermilk | 32,319 kilograms | January 1, 2012 to December 31, 2012.
Butter | 5,932,688 kilograms | January 1, 2012 to December 31, 2012.
Butter Oil and Butter Substitutes | 6,174,513 kilograms | January 1, 2012 to December 31, 2012.
Dairy Mixtures | 24,201,559 kilograms | January 1, 2012 to December 31, 2012.
Blue Cheese | 4,334,092 kilograms | January 1, 2012 to December 31, 2012.
Cheddar Cheese | 8,068,067 kilograms | January 1, 2012 to December 31, 2012.
American-Type Cheese | 2,721,110 kilograms | January 1, 2012 to December 31, 2012.
Edam/Gouda Cheese | 6,010,547 kilograms | January 1, 2012 to December 31, 2012.
Italian-Type Cheese | 20,021,048 kilograms | January 1, 2012 to December 31, 2012.
Swiss Cheese with Eye Formation | 25,445,598 kilograms | January 1, 2012 to December 31, 2012.
Gruyere Process Cheese | 3,242,155 kilograms | January 1, 2012 to December 31, 2012.
Lowfat Cheese | 367,975 kilograms | January 1, 2012 to December 31, 2012.
NSPF Cheese | 41,875,793 kilograms | January 1, 2012 to December 31, 2012.
Peanuts | 19,279 mt | April 1, 2011 to March 31, 2012.
| 19,018 mt | April 1, 2012 to March 31, 2013.
Peanut Butter/Paste | 4,498 mt | January 1, 2012 to December 31, 2012.
Raw Cane Sugar | 1,278,131 mt | October 1, 2011 to September 30, 2012.
| 1,054,460 mt | October 1, 2012 to September 30, 2013.
Refined Sugar and Syrups | 203,088 mt | October 1, 2011 to September 30, 2012.
| 208,571 mt | October 1, 2012 to September 30, 2013.
Blended Syrups | 192 mt | October 1, 2011 to September 30, 2012.
| 154 mt | October 1, 2012 to September 30, 2013.
Articles Over 65% Sugar | 247 mt | October 1, 2011 to September 30, 2012.
| 185 mt | October 1, 2012 to September 30, 2013.
Articles Over 10% Sugar | 16,434 mt | October 1, 2011 to September 30, 2012.
| 13,061 mt | October 1, 2012 to September 30, 2013.
Sweetened Cocoa Powder | 700 mt | October 1, 2011 to September 30, 2012.
| 305 mt | October 1, 2012 to September 30, 2013.
Chocolate Crumb | 8,011,270 kilograms | January 1, 2012 to December 31, 2012.
Lowfat Chocolate Crumb | 213,313 kilograms | January 1, 2012 to December 31, 2012.
Infant Formula Containing Oligosaccharides | 798,644 kilograms | January 1, 2012 to December 31, 2012.
Mixes and Doughs | 286 mt | October 1, 2011 to September 30, 2012.
| 218 mt | October 1, 2012 to September 30, 2013.
Mixed Condiments and Seasonings | 432 mt | October 1, 2011 to September 30, 2012.
| 419 mt | October 1, 2012 to September 30, 2013.
Ice Cream | 1,693,727 liters | January 1, 2012 to December 31, 2012.
Animal Feed Containing Milk | 61,103 kilograms | January 1, 2012 to December 31, 2012.
Short Staple Cotton | 30,605 kilograms | September 20, 2011 to September 19, 2012.
| 1,056,786 kilograms | September 20, 2012 to September 19, 2013.
Harsh or Rough Cotton | 60 kilograms | August 1, 2011 to July 31, 2012.
| 60 kilograms | August 1, 2012 to July 31, 2013.
Medium Staple Cotton | 51,298 kilograms | August 1, 2011 to July 31, 2012.
| 8,805 kilograms | August 1, 2012 to July 31, 2013.
Extra Long Staple Cotton | 1,007,631 kilograms | August 1, 2011 to July 31, 2012.
| 64 kilograms | August 1, 2012 to July 31, 2013.
Cotton Waste | 595,320 kilograms | September 20, 2011 to September 19, 2012.
| 393,492 kilograms | September 20, 2012 to September 19, 2013.
Cotton, Processed, Not Spun | 75,787 kilograms | September 20, 2011 to September 19, 2012.
| 77,794 kilograms | September 20, 2012 to September 19, 2013.

Dated: June 7, 2012.
Suzanne E. Heiner,
Administrator, Foreign Agricultural Service.

[FR Doc. 2012-15560 Filed 6-25-12; 8:45 am]

BILLING CODE 3410-10-P